Proclamation 10636 of September 29, 2023

National Clean Energy Action Month, 2023

By the President of the United States of America

A Proclamation

America is once again leading the world in the fight against climate change, and our Nation is in the midst of a clean energy revolution—reducing pollution, lowering energy costs, creating good-paying jobs, and making sure clean energy technologies are made in America. During National Clean Energy Action Month, we celebrate that historic progress and commit to continue working to build a more sustainable and energy secure Nation for future generations.

Clean energy has never been more essential. The climate crisis is driving extreme heat, deeper droughts, deadlier storms, and stronger wildfires, destroying lives and livelihoods—last year alone, major disasters caused over $177 billion in damages. Climate change is the existential threat of our time, and clean energy is key to tackling it.

My Administration is focused on fueling America's clean energy future so we lead the world in industries like solar, wind, geothermal, and advanced nuclear energy. When I took office, we set ambitious goals of reaching 100 percent clean electricity by 2035 and achieving net-zero-emissions by 2050. To get there, I signed the landmark Inflation Reduction Act, which makes the biggest investment in fighting climate change and advancing clean energy in the history of the world. It provides tax credits and rebates that can save families thousands of dollars by installing solar panels, energy-saving appliances, and heat pumps; weatherizing their homes to be more resilient against extreme weather; and purchasing American-made electric cars. The law is expected to triple wind power generation, increase solar production eightfold by 2030, and put tens of billions back in the pockets of Americans. Together with my Administration's Bipartisan Infrastructure Law, these investments could help us reach 80 percent clean energy by 2030.

As I have often said, when I think of climate change, I think of jobs—good-paying clean energy jobs. Since the beginning of my Administration, the private sector has announced more than $240 billion in new clean energy manufacturing investments. That includes more than $70 billion in electric vehicle and battery investments since I signed the Inflation Reduction Act. The clean energy projects that have moved forward in the past year are creating more than 170,000 clean energy jobs. My Administration is incentivizing companies to pay every one of those workers a prevailing wage and to use registered apprenticeships and made-in-America materials. And we are leaving no community behind—from the investments we are making to factories being built and jobs we are creating, we are seeing new opportunities in rural America, in the heartland, in energy communities, and all across our country.

My Administration is also working to upgrade our Nation's infrastructure. We have made the biggest investment in America's power grid ever, laying new transmission lines so clean energy can reach every corner of the country. We are installing more than 500,000 electric vehicle charging stations on roads nationwide. And we are speeding up permitting for clean energy projects while proposing new emissions standards to reduce pollution from oil and gas producers, power plants, and vehicles.

Today, the United States is deploying more solar and wind power than ever. Electric vehicle sales and clean energy manufacturing are booming. But we have much more to do. The climate crisis will not wait, nor will clean energy competitors in other nations. Americans must come together to win the clean energy future—the future of our economy, our national security, and our children and grandchildren all depend on it.

NOW, THEREFORE, I, JOSEPH R. BIDEN JR., President of the United States of America, by virtue of the authority vested in me by the Constitution and the laws of the United States, do hereby proclaim October 2023 as National Clean Energy Action Month. I call upon all Americans to recognize this month with action by investing in clean energy in their homes and businesses; using new tax credits to cut emissions while saving money on their energy bills and electric vehicles; talking to neighbors, friends, and coworkers about the opportunities to address the climate crisis; and working together to mitigate climate change and achieve a healthier environment for all.

IN WITNESS WHEREOF, I have hereunto set my hand this twenty-ninth day of September, in the year of our Lord two thousand twenty-three, and of the Independence of the United States of America the two hundred and forty-eighth.

[FR Doc. 2023-22235

Filed 10-3-23; 8:45 am]

Billing code 3395-F4-P